SOCIAL SECURITY ADMINISTRATION

[Docket No: SSA-2025-0032]

Agency Information Collection Activities: Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2025-0032] in your submitted response.

SSA submitted the information collections below to OMB for clearance. Your comments regarding these information collections would be most useful if OMB and SSA receive them 30 days from the date of this publication. To be sure we consider your comments, we must receive them no later than July 17, 2025 Individuals can obtain copies of these OMB clearance packages by writing to the OR.Reports.Clearance@ssa.gov.

1. Statement of Employer—20 CFR 404.801-404.803—0960-0030. When workers report they received wages from employers, but cannot provide proof of those earnings, and the wages do not appear in SSA's records of earnings, SSA uses Form SSA-7011-F4, Statement of Employer, to document the alleged wages. Specifically, the agency uses the form to resolve discrepancies in the individual's Social Security earnings record and to process claims for Social Security benefits. SSA only sends Form SSA-7011-F4 to employers if we are unable able to locate the earnings information within our own records. The respondents are employers who can verify wage allegations made by wage earners.

Type of Request: Revision of an OMB-approved information collection.

Modality of completion | Number of respondents | Frequency of response | Average burden per response (minutes) | Estimated total annual burden (hours) | Average theoretical hourly cost amount (dollars) * | Total annual opportunity cost (dollars) **
SSA-7011-F4 | 750 | 1 | 30 | 375 | * $32.66 | ** $12,248
* We based this figure on average U.S. worker's hourly wages, as reported by Bureau of Labor Statistics data (https://www.bls.gov/oes/current/oes_nat.htm#00-0000).
** This figure does not represent actual costs that SSA is imposing on recipients of Social Security payments to complete this application; rather, these are theoretical opportunity costs for the additional time respondents will spend to complete the application. There is no actual charge to respondents to complete the application.

2. Supplement to Claim of Person Outside the United States—20 CFR 422.505(b), 404.460, 404.463, and 42 CFR 407.27(c)—0960-0051. Claimants or beneficiaries (both United States (U.S.) citizens and aliens entitled to benefits) living outside the U.S. complete Form SSA-21 as a supplement to an application for benefits. SSA collects the information to determine eligibility for U.S. Social Security benefits for those months an alien beneficiary or claimant is outside the U.S., and to determine if tax withholding applies. In addition, SSA uses the information to: (1) Allow beneficiaries or claimants to request a special payment exception in an SSA restricted country; (2) terminate supplemental medical insurance coverage for recipients who request it, because they are, or will be, out of the U.S.; and (3) allow claimants to collect a lump sum death benefit if the number holder died outside the United States and we do not have information to determine whether the lump sum death benefit is payable under the Social Security Act. The respondents are Social Security claimants, or individuals entitled to Social Security benefits, who are, were, or will be residing outside the United States for three months or longer.

Type of Request: Revision of an OMB-approved information collection.

Modality of collection | Number of respondents | Frequency of response | Average burden per response (minutes) | Estimated total annual burden (hours) | Average theoretical hourly cost amount (dollars) * | Average wait time for teleservice centers (minutes) ** | Total annual opportunity cost (dollars) ***
Paper version—U.S. Residents | 143 | 1 | 14 | 33 | * $22.98 |  | *** $758
Paper version—Residents of a Tax Treaty Country | 755 | 1 | 9 | 113 | * 22.98 |  | *** 2,597
Paper version—Nonresident aliens | 570 | 1 | 8 | 76 | * 22.98 |  | *** 1,746
Intranet version—(MCS)—U.S. Residents | 371 | 1 | 11 | 68 | * 22.98 | ** 20 | *** 4,412
Intranet version—(MCS)—Residents of a Tax Treaty Country | 1,956 | 1 | 6 | 196 | * 22.98 | ** 20 | *** 19,487
Intranet version—(MCS)—Nonresident aliens | 1,485 | 1 | 5 | 124 | * 22.98 | ** 20 | *** 14,225
Totals | 5,280 |  |  | 610 |  |  | *** 43,225
* We based this figure on the combined average DI payments (https://www.ssa.gov/legislation/2024FactSheet.pdf) and the average U.S. worker's salary; as reported by Bureau of Labor Statistics data (https://www.bls.gov/oes/current/oes_nat.htm).
** We based this figure on the average FY 2025 wait times for teleservice centers, based on SSA's current management information data.
*** This figure does not represent actual costs that SSA is imposing on recipients of Social Security payments to complete this application; rather, these are theoretical opportunity costs for the additional time respondents will spend to complete the application. There is no actual charge to respondents to complete.

3. Student Reporting Form—20 CFR 404.352(b)(2), 404.367, 404.368, 404.415, 404.434, & 422.135-0960-0088. To qualify for Social Security Title II student benefits, student beneficiaries must be in full-time attendance status at an educational institution. In addition, SSA requires these beneficiaries to report events that may cause a reduction, termination, or suspension of their benefits. SSA collects such information on Forms SSA-1383 and SSA-1383-FC, to determine if the changes or events the student beneficiaries report will affect their continuing entitlement to SSA benefits. SSA also uses the SSA-1383 and SSA-1383-FC to calculate the correct benefit amounts for student beneficiaries. The respondents are Social Security Title II student beneficiaries.

Type of Request: Revision of an OMB-approved information collection.

Modality of collection | Number of respondents | Frequency of response | Average burden per response (minutes) | Estimated total annual burden (hours) | Average theoretical hourly cost amount (dollars) * | Average wait time in field office (minutes) ** | Total annual opportunity cost (dollars) ***
SSA-1383 | 8,158 | 1 | 6 | 816 | * $7.25 | ** 23 | *** $28,587
SSA-1383-FC | 557 | 1 | 6 | 56 | * 7.25 | ** 23 | *** 1,958
Totals | 8,715 |  |  | 872 |  |  | *** 30,545
* We based this figure on the Federal minimum hourly wage, as reported by Bureau of Labor Statistics data (https://www.bls.gov/opub/reports/minimum-wage/2023/).
** We based this figure on the average FY 2025 wait times for field offices, based on SSA's current management information data.
*** This figure does not represent actual costs that SSA is imposing on recipients of Social Security payments to complete this application; rather, these are theoretical opportunity costs for the additional time respondents will spend to complete the application. There is no actual charge to respondents to complete the application.

4. RSI/DI Quality Review Case Analysis—Sampled Number Holder, Form SSA-2930; RSI/DI Quality Review Case Analysis—Auxiliaries/Survivor, Form SSA-2931; Stewardship Annual Earnings Test Workbook, Form SSA-4659—0960-0189.

Section 205(a) of the Social Security Act (Act) authorizes the Commissioner of SSA to conduct the quality review process, which entails collecting information related to the accuracy of payments made under the Old-Age, Survivors, and Disability Insurance Program (OASDI). Sections 228(a)(3), 1614(a)(1)(B), and 1836(2) of the Act require a determination of the citizenship or alien status of the beneficiary; this is only one item that we might question as part of the Annual Quality review. SSA uses Forms SSA-2930 and SSA-2931, to establish a national payment accuracy rate for all cases in payment status, and to serve as a source of information regarding problem areas in the Retirement Survivors Insurance (RSI) and Disability Insurance (DI) programs. SSA also uses the information to measure the accuracy rate for newly adjudicated RSI or DI cases. SSA uses Form SSA-4659 to evaluate the effectiveness of the annual earnings test, and to use the results in developing ongoing improvements in the process. Respondents receive a notice for a telephone review using the SSA-8553 (Beneficiary Telephone Contact) or notice for a telephone review for the representative payee using the SSA-8554 (Rep Payee Telephone Contact). To help the beneficiary prepare for the interview, we include three forms with each notice: (1) SSA-85 (Information Needed to Review Your Social Security Claim), which lists the information the beneficiary will need to gather for the interview; (2) SSA-2935 (Authorization to the Social Security Administration to Obtain Personal Information), which verifies the beneficiary's correct payment amount, if necessary; and (3) SSA-8552 (Interview Confirmation), which confirms or reschedules the interview if necessary. The respondents are a statistically valid sample of all OASDI beneficiaries in current pay status or their representative payees.

Type of Request: Revision of an OMB-approved information collection.

Modality of completion | Number of respondents | Frequency of response | Average burden per response (minutes) | Estimated total annual burden (hours) | Average theoretical hourly cost amount (dollars) * | Average wait time for teleservice call centers (minutes) ** | Total annual opportunity cost (dollars) ***
SSA-2930 | 1,500 | 1 | 30 | 750 | * $22.98 | ** 20 | *** $28,725
SSA-2931 | 850 | 1 | 30 | 425 | * 22.98 | ** 20 | *** 16,270
SSA-4659 | 325 | 1 | 10 | 54 | * 22.98 | ** 20 | *** 3,723
SSA-8550 | 385 | 1 | 5 | 32 | * 22.98 | ** 20 | *** 3,677
SSA-8551 | 95 | 1 | 5 | 8 | * 22.98 | ** 20 | *** 919
SSA-8552 | 35 | 1 | 5 | 3 | * 22.98 | ** 20 | *** 345
SSA-8553 | 4,970 | 1 | 5 | 414 | * 22.98 | ** 20 | *** 47,592
SSA-8554 | 705 | 1 | 5 | 59 | * 22.98 | ** 20 | *** 6,756
SSA-8552 | 2,350 | 1 | 5 | 196 | * 22.98 | ** 20 | *** 22,497
SSA-85 | 3,850 | 1 | 5 | 321 | * 22.98 | ** 20 | *** 36,860
SSA-2935 | 2,350 | 1 | 5 | 196 | * 22.98 | ** 20 | *** 22,497
SSA-8510+ | 800 | 1 | 5 | 67 | * 22.98 | ** 20 | *** 7,675
Totals | 18,215 |  |  | 2,525 |  |  | *** 197,536
+ Note: We also obtain approval for the SSA-8510 under OMB No. 0960-0707. However, here we only account for the burden used as part of the quality review process, and we do not account for the burden associated with the quality review process under 0960-0707.
* We based this figure on the combined average DI payments based on SSA's current FY 2025 data (https://www.ssa.gov/legislation/2024FactSheet.pdf) and on the average U.S worker's hourly wages, as reported by Bureau of Labor Statistics data (https://www.bls.gov/oes/current/oes_nat.htm).
** We based this figure on the average FY 2025 wait times for teleservice centers, based on SSA's current management information data.
*** This figure does not represent actual costs that SSA is imposing on recipients of Social Security payments to complete this application; rather, these are theoretical opportunity costs for the additional time respondents will spend to complete the application. There is no actual charge to respondents to complete the application.

5. Modified Benefit Formula Questionnaire—Foreign Pension—0960-0561

SSA applies the Windfall Elimination Provision (WEP), a modified benefit formula for calculating Title II Social Security retirement or disability benefits, for months payable before January 2024. For those months, WEP affects the benefits of certain beneficiaries who received both a non-covered pension or annuity (domestic or foreign) as well as a Title II Social Security retirement or disability benefit. A non-covered pension or annuity is one that is based on earnings where the employer did not withhold Social Security taxes. SSA uses the information collected on Form SSA-308 to determine how much (if any) of a foreign pension reduces the amount of the Social Security benefit before January 2024. Respondents complete Form SSA-308 during the initial claims process (only if filed before January 2024) as well as in post-entitlement situations when someone needs to report receipt of a new foreign pension received before January 2024. The respondents are Title II Social Security retirement and disability applicants and beneficiaries who became entitled to their benefit after 1985 and who also received a foreign pension before January 2024 while entitled to their Social Security benefit.

This is a correction notice: SSA published the incorrect burden information for this collection at 90 FR 14891, on 4/04/25. We are correcting this error here.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-308 | 2,081 | 1 | 30 | 1,041 | * $22.98 | ** 22 | *** $41,456
* We based this figure on the combined average DI payments based on SSA's current FY 2025 data (https://www.ssa.gov/legislation/2024FactSheet.pdf) and on the average U.S worker's hourly wages, as reported by Bureau of Labor Statistics data (Occupational Employment and Wage Statistics).
** We based this figure on the average combined FY 2025 wait times for teleservice centers, based on SSA's current management information data.
*** This figure does not represent actual costs that SSA is imposing on recipients of Social Security payments to complete this application; rather, these are theoretical opportunity costs for the additional time respondents will spend to complete the application. There is no actual charge to respondents to complete the application.

6. Request for Business Entity Taxpayer Information—0960-0731. SSA requires Law firms or other business entities to complete Form SSA-1694, Request for Business Entity Taxpayer Information, if they wish to serve as appointed representatives and receive direct payment of fees from SSA. SSA uses the information to issue a Form 1099-MISC. SSA also uses the information to allow business entities to designate individuals to serve as entity administrators authorized to perform certain administrative duties on their behalf, such as providing bank account information, maintaining entity information, and updating individual affiliations. Respondents are law firms or other business entities with attorneys or other qualified individuals as partners or employees who represent claimants before SSA.

Type of Request: Revision of an OMB-approved information collection.

Modality of completion | Number of respondents | Frequency of response | Average burden per response (minutes) | Estimated total annual burden (hours) | Average theoretical hourly cost amount (dollars) * | Total annual opportunity cost (dollars) **
SSA-1694 | 181 | 1 | 20 | 60 | * $84.84 | ** $5,090
* We based this figure on the average legal occupation's hourly salary, as reported by Bureau of Labor Statistics data (https://www.bls.gov/oes/current/oes_nat.htm#00-00000).
** This figure does not represent actual costs that SSA is imposing on recipients of Social Security payments to complete this application; rather, these are theoretical opportunity costs for the additional time respondents will spend to complete the application. There is no actual charge to respondents to complete the application.

7. eSignature/Upload Documents—20 CFR 404.704; 404.1512, 416.912, and 422.505—0960-0830.

Background

In the digital age, individuals expect to complete transactions online, including submitting documents and forms to government agencies. The agency offers several service-specific options for individuals to submit forms and other documents online (e.g., iClaim, OMB #0960-0618; iAppeals, OMB Number 0960-0269 & 0960-0622; Electronic Records Express, OMB #0960-0753; etc.). While these available options are useful, the agency uses eSignature/Upload Documents [formerly Upload Documents (eSubmit)] to expand the options for first-party individuals to securely submit information electronically to SSA to complete business with the agency and support claims for benefits. The Social Security Administration (SSA) introduced eSignature/Upload Documents nationally in April 2024, as a new way for individuals to securely submit evidence and forms electronically to SSA.

SSA relies heavily on receiving physical forms, proofs, and evidence from customers and third parties (e.g., appointed representatives) either in office or via paper mail. SSA estimates that our offices receive roughly 35-36 million pieces of mail each year and that it takes about 4 minutes per paper mail parcel for front line staff to manually open, sort, review, digitize, and assign each piece of mail manually using our backend intake processing systems. SSA regulations under 20 CFR 404.704, 404.1512, 416.200, 416.912, and 422.505 set out requirements for the evidence and forms respondents need to submit and complete to conduct business with the agency. In addition, Executive Order (E.O.) 14058, Transforming Federal Customer Experience and Service Delivery to Rebuild Trust in Government, requires SSA to develop a mobile-accessible, online process so that any individual applying for, or receiving services from, SSA can upload forms, documentation, evidence, or correspondence associated with their transaction without the need for service-specific tools or travel to a field office. To comply with E.O. 14058, SSA created eSignature/Upload Documents, which allows respondents to upload and submit forms, documentation, and evidence to SSA electronically through the internet or a mobile application.

eSignature/Upload Documents

As per the requirements of E.O. 14058, respondents may use the secure upload portal, eSignature/Upload Documents, to submit documents and webforms to SSA. As of the March 2024 national rollout, eSignature/Upload Documents contains 71 forms and allows for the electronic submission of 79 evidence types. The current process requires an SSA technician to request forms and evidence from a customer, then send an email or text to the customer with a link to upload these documents. As a direct result of SSA Customer Experience (CX) testing and feedback recommendations, the eSignature/Upload Documents team is enhancing the tool to include an expansion of forms and evidence types available for upload including additional PDFs, as well as static and dynamic webforms. While adding additional PDFs and static webforms increases the forms and evidence available for customers to upload electronically, the dynamic webforms modernize the forms for easier customer completion and submission. Dynamic webforms adapt questions based on the customer's response, ask questions in plain language and are formatted in an easily understood way. Additionally, as a further result of customer feedback, eSignature/Upload Documents will implement an enhancement that allows customers to access the Upload Documents link directly from ssa.gov or their mySocial Security account without having to first interact with a SSA technician. Once the link is accessed and the form selected, the upload process eSignature/Upload Documents includes an electronic signature functionality allowing respondents to submit forms requiring a signature. Upon customer completion of a static or dynamic webform, the respondent includes an eSignature as needed, submits the form to SSA electronically, and the system generates a printable PDF for the customer's personal records if the customer desires it. eSignature/Upload Documents serves individuals including Title II, Title XVI, and Title XVIII beneficiaries, as well as individuals who do not currently receive any benefits from SSA. eSignature/Upload Documents is limited to first-party individuals, and does not currently allow third parties, including representative payees, to submit documents on behalf of others. Technicians contact the respondent, via email, telephone, or face-to-face interview with SSA, for a business matter (e.g., filing a claim, performing a redetermination, or updating their personal information). During the interaction, the SSA technician requests additional information and offers the opportunity to provide the information electronically via the eSignature/Upload Documents portal. The technician then sends a one-time email or text message containing a link to eSignature/Upload Documents with access instructions. Customers who request a text message as their preferred communication method must first provide consent to text messaging. The electronic submission process is only available within 30 days from the date of the email or text. If the respondents do not submit the documents within 10 days, they receive an email or text reminder to complete their submission.

Once the respondents click on the link to eSignature/Upload Documents, the system requires them to authenticate using one of SSA's electronic access options (OMB Control No. 0960-0789), ID.me, or Login.gov, and then presents them with the required language concerning the applicable Terms of Service, the Privacy Act Statement, the Paperwork Reduction Act Statement, and any identity proofing and authentication (as per the requirements of those authentication processes). Once the respondents arrive at the eSignature/Upload Documents dashboard, the system presents them with the description of the items SSA requested from them (examples of the documentation SSA may request includes forms or non-standardized evidence to support their request [e.g., pay stubs, bank statements, pension award letters, tax documents, child support payment history, etc.]). Each item SSA requests from the respondent appears as a request card on their dashboard.

To fulfill an eSignature/Upload Documents request, the system guides the respondent through one of three options:

1. Download, complete, save and then upload a PDF, or upload an evidence document, by dragging or browsing from their device and uploading the document to the eSignature/Upload Documents system.

2. Complete and submit a static webform with or without additional uploaded document(s).

3. Complete and submit a dynamic webform with or without additional uploaded document(s).

Once the respondents finish uploading their forms or documents, the system will alert them if the attempted file upload does not meet the file criteria requirements. The respondent then corrects any upload failures before submitting the documents to SSA.

After either uploading the documents, or completing the static or dynamic webform questions, the respondent must select the Submit button to complete the action, and the system will present them with the confirmation page. This page also presents an option to save or print the completed PDF. The respondent receives a successful submission email or text once they have successfully uploaded their document(s) to SSA. The system notifies the technician through the Technician Experience Dashboard (TED) when the document is available for review and consideration.

Commercial Product Alternative Signature (CPAS)

SSA also allows for the submission of certain forms signed using a commercial signature product. Some of these forms also have electronic means for submission. Under the CPAS process, individuals who use a commercial signature product to submit signed forms will ensure that the product is capable of generating an audit trail maintaining the following information in a digital certificate: (1) confirmation that the document was signed using a commercial product; (2) signature details (i.e., name of person who signed the document, date/time document was signed); (3) email and IP address associated with each signature; (4) whether the document was changed after signature; and (5) an identifier that connects the audit trail to the signed document to which it applies. SSA then requires the individual to maintain the digital certificate for a minimum of three years from the date they submitted the form and to produce the digital certificate if the agency requests it. Once the individual uses the CPAS process SSA allows them to submit the electronically signed forms using any method currently accepted for wet-signed forms (e.g., by mail, in person, or via a secured electronic transfer, like Upload Documents or Electronic Records Express, OMB #0960-0753).

Currently, SSA only accepts CPAS for the Commercial Product Alternative Signature (CPAS) process as an additional means for individuals to sign the following eight currently approved agency forms prior to sending them to SSA:

OMB No. | Form No. | Form Title
0960-0059 | SSA-821-BK; SSA-821-APP | Work Activity Report—Employee.
0960-0229 | SSA-8000-BK; iSSI (Internet modality) | Application for Supplemental Security Income (SSI).
0960-0444 | SSA-8001-BK; iSSI (Internet modality) | Application for Supplemental Security Income (Deferred or Abbreviated).
0960-0527* | SSA-1696; SSA-1696-APP | Appointment of Representative.
0960-0598 | SSA-820-BK; SSA-821-APP | Work Activity Report (Self-Employment).
0960-0618 | SSA-16; iClaim (Internet modality) | Application for Disability Insurance Benefits.
0960-0623 ** | SSA-827; i827 (Internet modality) | Authorization to Disclose Information to the Social Security Administration.
0960-0810 * | SSA-1693; SSA-1693-APP | Fee Agreement for Representation before the Social Security Administration.
* While Forms SSA-1696 and SSA-1693 are not, currently, available through the Upload Documents (eSubmit) Portal, we offer an electronically signable and submittable PDF version through the Adobe Sign process. However, we hope to expand the Upload Documents Portal to include them in the future.
** Note: SSA may require additional verbal attestation for Form SSA-827 when submitted using the CPAS process. However, if the respondent chooses to submit the SSA-827 through the eSignature/Upload Documents webform, or the internet i827, SSA will accept it without any additional attestation.

The specific forms that respondents submit through eSignature/Upload Documents (or the CPAS process) retain their existing OMB Control Numbers, reflecting the fact that the eSignature/Upload Document Paperwork Reduction Act (PRA) approval is for the system we use to collect form submissions, but not the actual questions on the forms themselves. While we note the use of eSignature/Upload Documents reduces the overall burden associated with submitting forms, SSA continues to document any burden reduction associated with improved submission within the specific forms' supporting statements.

Respondents are first-party individuals who choose to use the internet to conduct business with SSA.

Type of Request: Revision of an OMB-approved information collection.

Modality of completion | Number of respondents | Frequency of response | Average burden per response (minutes) | Estimated total annual burden (hours) | Average theoretical hourly cost amount (dollars) * | Average wait time for teleservice center (minutes) ** | Total annual opportunity cost (dollars) **
Internet-Based Static or Dynamic Webform (through Upload Documents or CPAS) | 115,369 | 1 | 5 | 9,614 | * $32.66 | ** 20 | *** $1,569,966
* We based these figures on average U.S. worker's hourly wages (based on BLS.gov data, Occupational Employment and Wage Statistics).
** We based this figure on the average FY 2025 wait times for teleservice centers (approximately 20 minutes per respondent), based on SSA's current management information data.
*** This figure does not represent actual costs that SSA is imposing on recipients of Social Security payments to complete this application; rather, these are theoretical opportunity costs for the additional time respondents will spend to complete the application. There is no actual charge to respondents to complete the application.

Dated: June 12, 2025.
Mark Steffensen,
General Counsel, Deputy Commissioner for Law and Policy, Social Security Administration.

[FR Doc. 2025-11123 Filed 6-16-25; 8:45 am]

BILLING CODE 4191-02-P